FEDERAL COMMUNICATIONS COMMISSION

Notice of Public Information Collection(s) Being Submitted for Review to the Office of Management and Budget

December 22, 2005.

SUMMARY: The Federal Communications Commission, as required by the Paperwork Reduction Act (PRA) of 1995, Public Law 104-13, and as part of its continuing effort to reduce paperwork burden, invites the general public and other Federal agencies to take this opportunity to comment on the following information collection(s). An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before February 10, 2006. If you anticipate that you will be submitting PRA comments, but find it difficult to do so within the period of time allowed by this notice, you should advise the contact listed below as soon as possible.

ADDRESSES: Direct all Paperwork Reduction Act (PRA) comments to Leslie F. Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via the Internet at Kristy_L._LaLonde@omb.eop.gov. If you would like to obtain or view a copy of this revised information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-1047.

Title: Telecommunications Relay Services and Speech-to-Speech Services for Individuals with Hearing and Speech Disabilities, CG Docket No. 03-123.

Form Number: N/A.

Type of Review: Revision of a currently approved collection.

Respondents: Business or other for-profit entities; State, local or tribal government.

Number of Respondents: 177 respondents.

Number of Responses: 677 responses.

Estimated Time per Response: 2 to 5 hours.

Frequency of Response: Recordkeeping; Annual and on occasion reporting requirements.

Total Annual Burden: 2,554 hours.

Total Annual Cost: $0.

Privacy Impact Assessment: No impact(s).

Needs and Uses: On December 12, 2005, the Commission released a Report and Order and Order on Reconsideration, In the Matter of Telecommunications Relay Services and Speech-to-Speech Services for Individuals with Hearing and Speech Disabilities, FCC 05-203, creating a fourth method for some TRS providers to become certified as eligible to receive compensation from the Interstate Telecommunications Relay Service (TRS) Fund. The Report and Order and Order on Reconsideration amends the TRS regulations to permit common carriers seeking to offer Video Relay Service (VRS) and Internet Protocol (IP) Relay Service to seek certification as an eligible TRS provider, eligible to receive reimbursement from the Interstate TRS Fund directly from the Commission.

The information collection requirements include the following: (A) 47 CFR 64.605(a)(2) common carriers seeking to offer VRS and IP Relay service and receive compensation from the Interstate TRS Fund, independent of a certified state program or a common carrier offering TRS, may seek certification from the Commission by providing documentation detailing: (1) A description of the forms of TRS to be provided, (2) a description of how the provider will meet all non-waived mandatory minimum standards applicable to each form of TRS offered, (3) a description of the provider's procedures for ensuring ongoing compliance with all applicable TRS rules, (4) a description of the provider's complaint procedures, (5) a narrative describing any areas in which the provider's service will differ from the applicable mandatory minimum standards, (6) a narrative establishing that services that differ from the mandatory minimum standards do not violate applicable mandatory minimum standards, (7) demonstration of status as common carrier, and (8) a statement that the provider will file annual compliance reports demonstrating continued compliance with the rules;

(B) 47 CFR 64.605(c)(2) a VRS or IP Relay provider may apply for renewal of its certification by filing documentation with the Commission, at least 90 days prior to expiration of certification, containing the information described in 47 CFR 64.605(a)(2);

(C) 47 CFR 64.605(e)(2) a certified VRS or IP Relay provider must submit documentation demonstrating ongoing compliance with the Commission's minimum standards if, for example, the Commission receives evidence that a certified VRS or IP Relay provider may not be in compliance with the minimum standards and the Commission requests such information;

(D) 47 CFR 64.605(f)(2) VRS and IP Relay providers certified under this section must notify the Commission of substantive changes in their TRS programs, services, and features within 60 days of when such changes occur, and must certify that the interstate TRS provider continues to meet Federal minimum standards after implementing the substantive change; and (E) 47 CFR 64.605(g) VRS and IP Relay providers certified under this section shall file with the Commission, on an annual basis, a report providing evidence that they are in compliance with § 64.604.

The information collection requirements also include those information collection requirements contained in the Telecommunications Relay Services and Speech-to-Speech Services for Individuals with Speech Disabilities, 2003 Report and Order and Notice of Proposed Rulemaking, which were previously approved by OMB on January 27, 2004, and adjustments made to the previous submission pursuant to the new census data.

Federal Communications Commission.
Marlene H. Dortch,
Secretary.

[FR Doc. 06-154 Filed 1-10-06; 8:45 am]

BILLING CODE 6712-01-P